ELECTION ASSISTANCE COMMISSION

Sunshine Act Meetings

AGENCY: U.S. Election Assistance Commission.

ACTION: Sunshine Act notice; notice of public meeting agenda.

SUMMARY: Public Meeting: U.S. Election Assistance Commission.

DATES: Tuesday, November 15, 2022, 10:00 a.m.-11:30 a.m. Eastern.

ADDRESSES: The Election Assistance Commission hearing room at 633 3rd St. NW, Washington, DC 20001. The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a public meeting to conduct regular business of the agency.

Agenda: The U.S. Election Assistance Commission (EAC) will host a public meeting to discuss a range of topics related to agency regular business. The agenda will include a presentation on accreditation of Voting System Testing Lab (VSTL) SLI Compliance to test voting systems to the Voluntary Voting System Guidelines (VVSG) 2.0, an overview of agency activities from Interim Executive Director, Mark A. Robbins, a presentation from the EAC Inspector General on EAC management challenges and recent audits, and remarks from state election officials on initial lessons learned from the 2022 election.

The full agenda will be posted in advance on the EAC website: https://www.eac.gov.

Background

Section 231(b) of the Help America Vote Act (HAVA) of 2002 (52 U.S.C. 20971(b)) requires that the EAC provide for the accreditation and revocation of accreditation of independent, non-federal laboratories qualified to test voting systems to Federal standards.

In order to meet its statutory requirements under HAVA § 20971(b), the EAC has developed the EAC's Voting System Test Laboratory Accreditation Program. The procedural requirements of the program are established in the EAC Voting System Test Laboratory Accreditation Program Manual. Although participation in the program is voluntary, adherence to the program's procedural requirements is mandatory for participants.

Status

This meeting will be open to the public.

Amanda Joiner,
Acting General Counsel, U.S. Election Assistance Commission.

[FR Doc. 2022-23779 Filed 10-27-22; 4:15 pm]

BILLING CODE 6820-KF-P